DEPARTMENT OF THE INTERIOR

National Park Service

[NPS-WASO-NRNHL-25494; PPWOCRADI0, PCU00RP14.R50000]

National Register of Historic Places; Notification of Pending Nominations and Related Actions

AGENCY: National Park Service, Interior.

ACTION: Notice.

SUMMARY: The National Park Service is soliciting comments on the significance of properties nominated before April 21, 2018, for listing or related actions in the National Register of Historic Places.

DATES: Comments should be submitted by May 21, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 21, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Ferguson, George W., House, 6441 N Treasure Dr, Tucson, MP100002476

ARKANSAS

Garland County

Cleveland Arms Apartment Building, 2410 Central Ave, Hot Springs, SG100002477

Pulaski County

Carmichael House, 13905 Arch Street Pike, Little Rock vicinity, SG100002478

Union County

Goodwin Field Administration Building, 418 Airport Dr, El Dorado, SG100002479

CONNECTICUT

Hartford County

Bristol High School, 70 Memorial Blvd., Bristol, SG100002506

DISTRICT OF COLUMBIA

District of Columbia

Duvall Manor Apartments, 3500-3510 Minnesota Ave SE, Washington, MP100002480

Texas Gardens Apartments, 1741 28th St SE, Washington, MP100002481

INDIANA

Kosciusko County

Little Crow Milling Company Factory, 201 S Detroit St, Warsaw, SG100002488

Marion County

Our Savior Lutheran Church, 261 W 25th St, Indianapolis, SG100002490

Stout Field, Administration Building, Address Restricted, Indianapolis vicinity, SG100002491

Stout Field, Hangar, Address Restricted, Indianapolis vicinity, SG100002493

University Club, 970 N Delaware St, Indianapolis, SG100002494

Miami County

Peru Courthouse Square Historic District, Roughly bounded by Wabash R., Wabash, 7th & Miami Sts, Peru, SG100002492

Putnam County

Cloverdale Historic District, Generally bounded by Robert L. Weist Ave, Lafayette, Logan & Grant Sts, Cloverdale, SG100002496

National Road over Deer Creek Historic District, US 40 & W Cty Rd 570S, Old US 40 & S Cty Rd 25E & Putnam County Bridges #237 & 187, Putnamville vicinity, SG100002497

Randolph County

Union Literary Institute, Address Restricted, Spartanburg vicinity, SG100002498

Sullivan County

Center Ridge Cemetery, 704 W Johnson St, Sullivan, SG100002499

IOWA

Bremer County

Third Street Bridge (FHWA No. 012250), 3rd St SE over the Cedar R. between 5th & 6th Aves SE, Waverly, MP100002485

Dubuque County

Sacred Heart School, 2238 Queen St, Dubuque, SG100002486

Polk County

Younker Brothers Department Store (Boundary Decrease), 713 Walnut St., Des Moines, BC100002487

MARYLAND

Baltimore Independent city

Morgan State University Memorial Chapel, 4307 Hillen Rd, Baltimore (Independent City), SG100002500

MINNESOTA

Chippewa County

Maynard State Bank, 330 Cynthia St, Maynard, MP100002501

Koochiching County

Ranier Community Building, 2099 Spruce St., Ranier, MP100002502

Williams Township School, 740 Cty Rd 89, Clementson vicinity, SG100002503

Otter Tail County

Trinity Lutheran Church, 301 Douglas Ave, Henning, SG100002504

MONTANA

Jefferson County

Lewis and Clark Caverns Historic District, Lewis & Clark Caverns Rd, LaHood vicinity, SG100002505

NEW YORK

Columbia County

Austerlitz Historic District, NY 22, Harvey Mtn., E Hill, W Hill & Old Rds, Austerlitz, SG100002507

Spencertown Historic District, NY 203, Elm & South Sts, Austerlitz, SG100002508

Erie County

Buffalo General Electric Complex, 960-996 Busti Ave & 990 Niagara St., Buffalo, SG100002509

Ingleside Home, 70 Harvard Pl, Buffalo, SG100002511

Westminster House Club House, 419 Monroe St, Buffalo, SG100002512

Saratoga County

Copeland Carriage Shop, North Shore Rd, Beecher Hollow, SG100002513

Seneca County

Ford, Edith B., Memorial Library, 7169 Main St., Ovid, SG100002514

Tompkins County

Tibbetts—Rumsey House, 310 W State St, Ithaca, SG100002515

NORTH CAROLINA

Forsyth County

Flynt House, 6780 University Pkwy, Rural Hall, SG100002516

Franklin County

Concord School, 645 Walter Grissom Rd, Kittrell vicinity, MP100002517

Halifax County

Allen Grove School, 13763 NC 903, Halifax, MP100002518

Madison County

Mars Hill School, 225 Mount Olive Dr, Mars Hill, MP100002519

Pender County

Canetuck School, 6098 Canetuck Rd, Currie vicinity, MP100002520

PENNSYLVANIA

Berks County

Reading Country Club, 5311 Perkiomen Ave, Exeter Township, SG100002521

Delaware County

St. Joseph's Parish Complex, 500 Woodlawn Ave, Collingdale, SG100002522

Philadelphia County

East Center City Commercial Historic District (Boundary Increase and Decrease), Roughly bounded by S 6th, Locust, Juniper, Market & Arch Sts, Philadelphia, BC100002523

RHODE ISLAND

Newport County

Van Rensselaer, Alexander, House, 1 Ichabod Ln, Middletown, SG100002524

SOUTH CAROLINA

Anderson County

Anderson Downtown Historic District (Boundary Increase II), 400-420 S Main & 109 W Market Sts., Anderson, BC100002525

Lexington County

Colonial—Hites Company, 228 N Parson St, West Columbia, SG100002526

Richland County

Olympia Mill School, 1170 Olympia Ave, Columbia vicinity, SG100002527

VIRGINIA

Charlottesville Independent city

North Belmont Neighborhood Historic District, Roughly Avon, Castalia, Church, Douglas, Goodman, Graves, Levy, Little Graves, Meridian, Rialto, & Sonoma Sts, Belmont, Carlton, Hinton & Monticello Aves, Charlottesville (Independent City), SG100002528

Lynchburg Independent city

Twelfth Street Industrial Historic District, 600 & 700 blks of 12th & 603 Grace Sts, Dunbar Dr, Lynchburg (Independent City), SG100002529

Richmond Independent city

Kenwyn, 6 Ampthill Rd, Richmond (Independent City), SG100002530

Oliver Chilled Plow Works Branch House, 908 Oliver Way, Richmond (Independent City), SG100002531

Roanoke Independent city

Villa Heights, 2750 Hoover St, Roanoke (Independent City), SG100002532

Shenandoah County

Funkhouser Farm, 27812 Old Valley Pike, Toms Brook vicinity, SG100002533

Wythe County

Wytheville Historic District (Boundary Increase), 370 W Spring St, Wytheville, BC100002534,

A request for removal has been made for the following resources:

ARIZONA

Pima County

Blixt—Avitia House, (Menlo Park MPS), 830 W. Alameda St., Tucson, OT92000251

Yuma County

Fredley Apartments, (Yuma MRA), 406 2nd Ave., Yuma, OT82001634, Fredley House, (Yuma MRA), 408 2nd Ave., Yuma, OT82001635

Additional documentation has been received for the following resources:

INDIANA

Marion County

Millikan, Lovel D., House, 2530 N. Park Ave., Indianapolis, AD100001608

NEW YORK

Erie County

Elmwood Historic District—West, 348 Ashland Ave., Buffalo, AD12000996

Authority: Section 60.13 of 36 CFR part 60.

Dated: April 25, 2018.
Julie H. Ernstein,
Acting Chief, National Register of Historic Places/National Historic Landmarks Program.

[FR Doc. 2018-09478 Filed 5-3-18; 8:45 am]

BILLING CODE 4312-52-P